ENVIRONMENTAL PROTECTION AGENCY

[EPA-HQ-OAR-2008-0118; FRL-8572-3]

Agency Information Collection Activities; Submission to OMB for Review and Approval; Comment Request; Determine Percentage of High Evaporative Emissions Vehicles in On-Road Fleet, EPA ICR Number 2292.01, OMB Control Number 2060-NEW

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request for a new collection. This ICR describes the nature of the information collection and its estimated burden and cost.

DATES: Additional comments may be submitted on or before June 27, 2008.

ADDRESSES: Submit your comments, referencing docket ID number EPA-HQ-OAR-2008-0118, to (1) EPA online using www.regulations.gov (our preferred method), by e-mail to a-and-r-docket@epa.gov, or by mail to: EPA Docket Center, Environmental Protection Agency, Air and Radiation Docket and Information Center, Mail Code 6102T, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Constance Hart, Assessment and Standards Division, Office of Transportation and Air Quality, Environmental Protection Agency, 2000 Traverwood Drive, Ann Arbor, MI 48105; telephone number: (734) 214-4340; fax number: (734) 214-4939; e-mail address: hart.connie@epa.gov.

SUPPLEMENTARY INFORMATION: EPA has submitted the following ICR to OMB for review and approval according to the procedures prescribed in 5 CFR 1320.12. On February 14, 2008 (73 FR 8661), EPA sought comments on this ICR pursuant to 5 CFR 1320.8(d). EPA received no comments.

EPA has established a public docket for this ICR under Docket ID No. EPA-HQ-OAR-2008-0118, which is available for public viewing at the Air Docket in the EPA Docket Center (EPA/DC), EPA West, Room 3334, 1301 Constitution Ave., NW., Washington, DC. The EPA Docket Center Public Reading Room is open from 8:30 a.m. to 4:30 p.m., Monday through Friday, excluding legal holidays. The telephone number for the Reading Room is (202) 566-1744, and the telephone number for the Air Docket is (202) 566-1742.

Use EPA's electronic docket and comment system at www.regulations.gov, to submit or view public comments, access the index listing of the contents of the docket, and to access those documents in the docket that are available electronically. Once in the system, select “docket search,” then key in the docket ID number identified above. Please note that EPA's policy is that public comments, whether submitted electronically or in paper, will be made available for public viewing at www.regulations.gov as EPA receives them and without change, unless the comment contains copyrighted material, confidential business information (CBI), or other information whose public disclosure is restricted by statute. For further information about the electronic docket, go to www.regulations.gov.

Title: Determine Percentage of High Evaporative Emissions Vehicles in On-road Fleet.

ICR Number: EPA ICR No. 2292.01, OMB Control No. 2060-NEW.

ICR Status: This ICR is for a new information collection activity. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: In response to recommendations from the National Research Council of the National Academy of Sciences, EPA is initiating a systematic data collection to estimate the fraction of light-duty vehicles with high levels of evaporative emissions. Data to be collected include vehicle type, recent repair history and “in-use” or “real-world” evaporative emission rates.

The collection is a test program, to be conducted by the Office of Transportation and Air Quality (OTAQ) in the Office of Air and Radiation (OAR). This study will combine novel, newly developed test procedures with statistical survey design to estimate the number of vehicles with high evaporative emissions. The new procedures will be developed in a pilot study that will precede the actual test program. Development of new test procedures employing new technology and test methods promises to substantially reduce the cost of evaporative emissions measurement as well as improve the accuracy of these estimates.

The test program itself will be conducted in Region 6, and participation in the program shall be voluntary. The pilot program shall be conducted in EPA Region 8, and participation in it shall also be voluntary. Evaporative emissions will be measured using a variety of methods that will include Remote Sensing, an infra-red camera specifically designed to detect fugitive hydrocarbon emissions and a hydrocarbon sniffer designed for automotive applications. Remote sensing data will be collected prior to a standard I/M test as the vehicle approaches the facility. Those owners solicited that agree to participate in the program shall be provided with a rental car and their vehicle immediately subjected to the test protocol outlined below as resources permit. Following quality-assurance and analysis, the data will be stored in OTAQ's Mobile Source Observation Database.

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average 2 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Private individuals.

Estimated Number of Respondents: 2000 .

Frequency of Response: 1.

Estimated Total Annual Hour Burden: 3530.

Estimated Total Annual Cost: $91,533, includes $0 annualized capital or O&M costs.

Changes in the Estimates: This is a new collection so there is no change from a previously approved burden.

Dated: May 21, 2008.
Sara Hisel-McCoy,
Director, Collection Strategies Division.

[FR Doc. E8-11865 Filed 5-27-08; 8:45 am]

BILLING CODE 6560-50-P